DEPARTMENT OF AGRICULTURE

Agricultural Marketing Service

[Doc. No. AMS-NOP-10-0066; NOP-10-07]

Notice of 2010 National Organic Certification Cost-Share Program

AGENCY: Agricultural Marketing Service, USDA.

ACTION: Notice of Funds Availability. Inviting Applications for the National Organic Certification Cost-Share Program.

SUMMARY: This Notice invites all States of the United States of America, its territories, the District of Columbia, and the Commonwealth of Puerto Rico, (collectively hereinafter called States) to submit an Application for Federal Assistance (Standard Form 424), and to enter into a cooperative agreement with the Agricultural Marketing Service (AMS) for the allocation of National Organic Certification Cost-Share Funds. The AMS has allocated $22.0 million for this organic certification cost-share program commencing in Fiscal Year 2008, and these funds will be annually allocated to States through cooperative agreements until exhausted. Funds are available under this program to States interested in providing cost-share assistance to organic producers and handlers certified under the National Organic Program (NOP). States interested in obtaining cost-share funds must submit an Application for Federal Assistance and enter into a cooperative agreement with AMS for allocation of funds.

DATES: Completed applications for Federal assistance along with signed cooperative agreements must be received by September 24, 2010.

ADDRESSES: Applications for Federal assistance and cooperative agreements shall be submitted to: Betsy Rakola, Grants Management Specialist, National Organic Program, USDA/AMS/NOP, Room 2640-South, Ag Stop 0268, 1400 Independence Avenue, SW., Washington, DC 20250-0268; Telephone: (202) 720-3252. Additional information can be found under “Organic Cost Share Program” on the National Organic Program's homepage at http://www.ams.usda.gov/nop.

FOR FURTHER INFORMATION CONTACT: Betsy Rakola, Grants Management Specialist, National Organic Program, USDA/AMS/NOP, Room 2646-South, Ag Stop 0268, 1400 Independence Avenue, SW., Washington, DC 20250-0268; Telephone: (202) 720-3252.

SUPPLEMENTARY INFORMATION: This National Organic Certification Cost-Share Program is authorized under 7 U.S.C. 6523, as amended by section 10301 of the Food, Conservation and Energy Act of 2008 (Act). The Act authorizes the Department to provide certification cost-share assistance to producers and handlers of organic agricultural products in all States. Beginning in Fiscal Year 2008, the AMS has allocated $22 million for this program to be distributed through cooperative agreements to interested States, until such funding has been exhausted. The Program provides financial assistance to organic producers and handlers certified to the NOP. The NOP is authorized under the Organic Foods Production Act of 1990, as amended (7 U.S.C. 6501 et seq.).

To participate in the program, interested States, through their State Department of Agriculture, must complete an Application for Federal Assistance (Standard Form 424) and enter into a written cooperative agreement with AMS. State Department of Agriculture refers to agencies, commissions, or departments of State government responsible for implementing regulation, policy or programs on agriculture within their State. The program will provide cost-share assistance, through participating States, to organic producers and handlers receiving certification or continuation of certification by a USDA accredited certifying agent commencing October 1, 2010, through September 30, 2011. Under the Act, cost-share assistance payments are limited to 75 percent of an individual producer's or handler's certification costs up to a maximum of $750.00 per year.

To receive cost-share assistance, organic producers and handlers must submit an application to the representative Agency of the State in which their farm/operation is located. This application must include: (1) Proof of NOP certification issued or continued within the cost-share qualifying period, October 1, 2010, through September 30, 2011, and; (2) an itemized invoice demonstrating costs incurred for NOP certification. Costs incurred for non-certification activities, such as, membership associations or farm/operation inputs are not eligible for assistance through this program.

However, for producers in the states of Connecticut, Delaware, Hawaii, Maine, Maryland, Massachusetts, Nevada, New Hampshire, New Jersey, New York, Pennsylvania, Rhode Island, Utah, Vermont, West Virginia, and Wyoming cost-share funding is available to these states, through their State Department of Agriculture, under the Agricultural Management Assistance (AMA) Organic Certification Cost-Share Program authorized under Section 1524 of the Federal Crop Insurance Act, as amended (7 U.S.C. 1501-1524). As provided in a notice of Funds Availability published in the Federal Register completed applications for the AMA Federal assistance program, along with signed cooperative agreements must be received by close of business, September 24, 2010. Information on the AMA program can be found under “Organic Cost Share Program” on the NOP's homepage at http://www.ams.usda.gov/nop.

How to Submit Applications: To receive fund allocations to provide cost-share assistance, a State Department of Agriculture must complete an Application for Federal Assistance (Standard Form 424), and enter into a written cooperative agreement with AMS. AMS encourages interested States to submit the Application for Federal Assistance (Standard Form 424), electronically via Grants.gov, the Federal grants Web site, http://www.grants.gov. Applications submitted electronically via Grants.gov must be filed by September 24, 2010. A hardcopy of Standard Form 424 bearing an original signature is not required when applying through http://www.grants.gov. However, the cooperative agreement must have the original signature of the official who has authority to apply for Federal assistance. The signed cooperative agreement must be sent by express mail or courier service and received at the above address by September 24, 2010. States considering submitting electronic application forms should become familiar with the Grants.gov Web site and begin the application process well in advance of the application deadline. For information on how to apply electronically, please consult http://www.grants.gov/GetRegistered.

State Agencies submitting hard copy applications should submit a signed copy of Standard Form 424 and a signed copy of the cooperative agreement the application package to AMS at the address listed above. The Standard Form 424 and the cooperative agreement must have the original signature of the official who has authority to apply for Federal assistance. Hard copy applications should be sent only via express mail or courier service and must be received at the above address by September 24, 2010.

The National Organic Certification Cost-share Program is listed in the “Catalog of Federal Domestic Assistance” under number 10.163 and subject agencies must adhere to Title VI of the Civil Rights Act of 1964, which bars discrimination in all Federally-assisted programs. Additional information on the National Organic Certification Cost-share Program can be found under “Organic Cost Share Program” on the NOP's homepage at http://www.ams.usda.gov/nop.

Authority: 7 U.S.C. 6523.

Dated: September 1, 2010.
Rayne Pegg,
Administrator, Agricultural Marketing Service.

[FR Doc. 2010-22243 Filed 9-7-10; 8:45 am]

BILLING CODE 3410-02-P